OFFICE OF PERSONNEL MANAGEMENT

Excepted Service; June 2022

AGENCY: Office of Personnel Management (OPM).

ACTION: Notice.

SUMMARY: This notice identifies Schedule A, B, and C appointing authorities applicable to a single agency that were established or revoked from June 1, 2022, to June 30, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during June 2022.

Schedule B

No Schedule B Authorities to report during June 2022.

Schedule C

The following Schedule C appointing authorities were approved during June 2022.

Agency name | Organization name | Position title | Authorization No. | Effective date
DEPARTMENT OF AGRICULTURE | Office of Rural Development | State Director—California | DA220132 | 06/03/2022
| Farm Service Agency | State Executive Director—Hawaii | DA220136 | 06/21/2022
DEPARTMENT OF COMMERCE | Office of International Trade Administration | Special Advisor | DC220131 | 06/17/2022
| Office of National Telecommunications and Information Administration | Director of Congressional Affairs | DC220122 | 06/03/2022
|  | Special Advisor | DC220125 | 06/03/2022
|  | Deputy Director of Congressional Affairs | DC220134 | 06/17/2022
| Office of Advance, Scheduling and Protocol | Scheduler | DC220130 | 06/17/2022
| Office of Executive Secretariat | Special Assistant | DC220121 | 06/03/2022
| Office of White House Liaison | Special Assistant | DC220133 | 06/17/2022
|  | Deputy White House Liaison | DC220136 | 06/17/2022
CONSUMER FINANCIAL PROTECTION BUREAU | Office of the Director | Senior Advisor to the Director (Communications) | FP220005 | 06/27/2022
|  | Senior Advisor (Policy and Strategic Planning) | FP220006 | 06/27/2022
DEPARTMENT OF DEFENSE | Office of the Assistant Secretary of Defense (Legislative Affairs) | Special Assistant (2) | DD220149 DD220153 | 06/15/2022 06/30/2022
| Office of the Assistant to the Secretary of Defense (Public Affairs) | Chief of Staff | DD220143 | 06/01/2022
| Office of the Secretary of Defense | Deputy White House Liaison | DD220148 | 06/15/2022
|  | Special Assistant (Policy) to the Deputy Secretary of Defense | DD220150 | 06/17/2022
| Office of the Under Secretary of Defense (Intelligence and Security) | Special Advisor | DD220142 | 06/01/2022
| Washington Headquarters Services | Senior Director for Strategic Planning | DD220152 | 06/23/2022
DEPARTMENT OF THE AIR FORCE | Office of Assistant Secretary of the Air Force for Manpower and Reserve Affairs | Special Assistant | DF220014 | 06/02/2022
DEPARTMENT OF EDUCATION | Office of the Secretary | Executive Director, White House Initiative on Advancing Educational Equity, Excellence, and Economic | DB220062 | 06/16/2022
DEPARTMENT OF ENERGY | Office of the Assistant Secretary for Congressional and Intergovernmental Affairs | Legislative Affairs Advisor (Senate) | DE220083 | 06/10/2022
| Office of the Assistant Secretary for Energy Efficiency and Renewable Energy | Senior Advisor | DE220056 | 06/30/2022
| Office of Management | Special Assistant for Advance | DE220085 | 06/10/2022
| Office of State and Community Energy Programs | Chief of Staff | DE220092 | 06/30/2022
ENVIRONMENTAL PROTECTION AGENCY | Region II—New York | Special Advisor for Implementation | EP220055 | 06/07/2022
| Office of the Associate Administrator for Policy | Special Assistant | EP220056 | 06/07/2022
GENERAL SERVICES ADMINISTRATION | Office of the Administrator | Senior Advisor to the Administrator (Climate) | GS220015 | 06/30/2022
DEPARTMENT OF HEALTH AND HUMAN SERVICES | Office of Administration for Children and Families | Special Assistant (2) | DH220101 DH220122 | 06/23/2022 06/30/2022
| Office of Intergovernmental and External Affairs | Regional Director, Boston, Massachusetts, Region I | DH220119 | 06/30/2022
| Office of the Assistant Secretary for Legislation | Special Assistant | DH220121 | 06/30/2022
| Office of the Secretary | Special Assistant | DH220099 | 06/01/2022
DEPARTMENT OF HOMELAND SECURITY | Privacy Office | Senior Advisor | DM220174 | 06/08/2022
| Office of Legislative Affairs | Director of Legislative Affairs | DM220188 | 06/14/2022
| Federal Emergency Management Agency | Director of Intergovernmental Affairs | DM220205 | 06/17/2022
| Office of Partnership and Engagement | Executive Director, Homeland Security Advisory Council | DM220198 | 06/23/2022
DEPARTMENT OF HOUSING AND URBAN DEVELOPMENT | Government National Mortgage Association | Senior Advisor | DU220049 | 06/17/2022
| Office of Community Planning and Development | Senior Advisor for Disaster Recovery | DU220047 | 06/17/2022
|  | Policy Advisor | DU220050 | 06/30/2022
| Office of the Administration | Special Assistant | DU220045 | 06/17/2022
DEPARTMENT OF JUSTICE | Office of Legal Policy | Counsel | DJ220084 | 06/02/2022
| Office of Antitrust Division | Counsel | DJ220087 | 06/02/2022
DEPARTMENT OF LABOR | Office of the Secretary | Deputy Advisor for Private Sector Engagement | DL220063 | 06/08/2022
MERIT SYSTEMS PROTECTION BOARD | Office of the Board, Vice Chairman | Confidential Assistant to the Vice Chairman | MP220002 | 06/01/2022
| Office of the Board, Chairman | Confidential Assistant to the Chairman | MP220003 | 06/15/2022
NATIONAL AERONAUTICS AND SPACE ADMINISTRATION | Office of Communications | Press Assistant | NN220034 | 06/03/2022
NATIONAL LABOR RELATIONS BOARD | Office of the Board Members | Communications Specialist | NL220012 | 06/08/2022
OFFICE OF THE UNITED STATES TRADE REPRESENTATIVE | Office of Public and Media Affairs | Deputy Assistant United States Trade Representative for Digital | TN220009 | 06/17/2022
UNITED STATES INTERNATIONAL DEVELOPMENT FINANCE CORPORATION | Overseas Private Investment Corporation | Advisor | PQ220004 | 06/17/2022
SMALL BUSINESS ADMINISTRATION | Office of the Administrator | Confidential Assistant | SB220031 | 06/21/2022
DEPARTMENT OF STATE | Office of the Under Secretary for Political Affairs | Senior Advisor (Speechwriter) | DS220047 | 06/03/2022
| Bureau of Global Public Affairs | Principal Deputy Spokesperson | DS220049 | 06/03/2022
| Bureau of Legislative Affairs | Senior (Congressional) Advisor | DS220050 | 06/08/2022
DEPARTMENT OF TRANSPORTATION | Office of the Secretary | Special Projects Manager | DT220090 | 06/17/2022
| Office of the Assistant Secretary for Governmental Affairs | Advisor for Governmental Affairs | DT220091 | 06/17/2022
|  | Associate Director for Governmental Affairs | DT220092 | 06/17/2022
DEPARTMENT OF THE TREASURY | Office of the Assistant Secretary (Public Affairs) | Senior Advisor | DY220128 | 06/24/2022
DEPARTMENT OF VETERANS AFFAIRS | Office of the Secretary and Deputy | White House Liaison | DV220051 | 06/03/2022

The following Schedule C appointing authorities were revoked during June 2022.

Agency name | Organization name | Position Title | Request No. | Vacate date
CONSUMER FINANCIAL PROTECTION BUREAU | Office of the Director | Senior Advisor to the Director (Communications) | FP220001 | 06/27/2022
DEPARTMENT OF AGRICULTURE | Farm Service Agency | Confidential Assistant | DA220016 | 06/18/2022
| Office of the Secretary | Director of Scheduling and Advance | DA220116 | 06/04/2022
| Office of Rural Development | Special Assistant | DA210124 | 06/18/2022
DEPARTMENT OF COMMERCE | National Telecommunications and Information Administration | Chief of Staff for National Telecommunications and Information Administration | DC210156 | 06/18/2022
| Office of the Assistant Secretary for Economic Development | Director of Strategic Partnerships | DC210203 | 06/04/2022
| Office of the Under Secretary | Senior Advisor | DC220020 | 06/04/2022
DEPARTMENT OF ENERGY | Office of the Assistant Secretary for Energy Efficiency and Renewable Energy | Deputy Chief of Staff | DE210152 | 06/04/2022
| Office of Public Affairs | Speechwriter | DE210144 | 06/04/2022
DEPARTMENT OF HEALTH AND HUMAN SERVICES | Office of Global Affairs | Special Assistant to the Director | DH210076 | 06/18/2022
| Office of the Secretary | Special Assistant for Scheduling | DH210099 | 06/04/2022
DEPARTMENT OF HOMELAND SECURITY | Office of the General Counsel | Oversight Counsel | DM220039 | 06/17/2022
| Office of the Secretary | Deputy White House Liaison | DM220014 | 06/03/2022
DEPARTMENT OF HOUSING AND URBAN DEVELOPMENT | Office of Housing | Special Assistant | DU210035 | 06/04/2022
| Office of Public Affairs | Digital Strategist | DU210104 | 06/11/2022
DEPARTMENT OF TRANSPORTATION | Office of the Assistant Secretary for Governmental Affairs | Special Assistant for Governmental Affairs | DT210078 | 06/04/2022
| Office of the Deputy Secretary | Special Assistant | DT210071 | 06/18/2022
ENVIRONMENTAL PROTECTION AGENCY | Office of Public Affairs | Public Affairs Specialist | EP210084 | 06/04/2022
|  | Deputy Associate Administrator for Public Affairs | EP210103 | 06/04/2022
EQUAL EMPLOYMENT OPPORTUNITY COMMISSION | Office of the Chair | Policy Analyst | EE210010 | 06/04/2022
OFFICE OF THE SECRETARY OF DEFENSE | Office of the Assistant Secretary of Defense (Legislative Affairs) | Special Assistant (2) | DD210261 DD220101 | 06/04/2022 06/16/2022
SECURITIES AND EXCHANGE COMMISSION | Office of the Chairman | Confidential Assistant (2) | SE150003 SE190010 | 06/10/2022 06/03/2022
SMALL BUSINESS ADMINISTRATION | Office of the Administrator | Special Assistant | SB210048 | 06/04/2022
UNITED STATES INTERNATIONAL DEVELOPMENT FINANCE CORPORATION | Overseas Private Investment Corporation | Special Assistant | PQ220001 | 06/18/2022

Authority: 5 U.S.C. 3301 and 3302; E.O. 10577, 3 CFR, 1954-1958 Comp., p. 218.

Office of Personnel Management.
Stephen Hickman,
Federal Register Liaison.

[FR Doc. 2022-22597 Filed 10-17-22; 8:45 am]

BILLING CODE 6325-39-P